FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 21, 2013.

A. Federal Reserve Bank of Kansas City (Dennis Denney, Assistant Vice President) 1 Memorial Drive, Kansas City, Missouri 64198-0001:

1. Aaron W. Anderson, Topeka, Kansas; Angela Anderson Swift, Overland Park, Kansas; Emery Kent Fager, Olathe, Kansas; John Fontron Fager, Auburn, Kansas; and Melissa Fager Hiestand, Topeka, Kansas; in their individual capacities, as fiduciaries and/or as grantors or trustees of the following trusts: Aaron W. Anderson Trust; Angela Anderson Swift Trust; Emery Kent Fager Trust; John Fontron Fager Trust; Melissa Fager Hiestand Trust; Adam William Anderson Trust; Joshua Robert Anderson Trust; Sydney Ellen Anderson Trust; Andrew Timothy Swift Trust; Sarah Ann Swift Trust; Samuel James Swift Trust; Amelia Lynn Fager Trust; Greysen Hartline Fager Trust; Holden Emery Fager Trust; Jackson Duane Fager Trust; Gabrielle Elizabeth Fager Trust; Kaitlin Elizabeth Hiestand Trust; Ella Claire Hiestand Trust and Blake Michael Hiestand Trust; and the Emery E. Fager Trust; the Duane Fager Special Trust; and the Jane Anderson Trust, all as members of the Fager Family Group; to retain voting shares of Commerce Bank and Trust Holding Company, and thereby indirectly retain voting shares of CoreFirst Bank & Trust, both in Topeka, Kansas.

2. Robert V. Haderlein, Girard, Kansas; to retain voting shares of Mid-America Bancshares, Inc., and thereby indirectly retain voting shares of First National Bank of Girard, both in Girard, Kansas.

Board of Governors of the Federal Reserve System, May 1, 2013.
Michael J. Lewandowski,
Assistant Secretary of the Board.

[FR Doc. 2013-10671 Filed 5-3-13; 8:45 am]

BILLING CODE 6210-01-P